OFFICE OF THE UNITED STATES TRADE REPRESENTATIVE

Technical Corrections to the Harmonized Tariff Schedule of the United States

AGENCY: Office of the United States Trade Representative.

ACTION: Notice.

SUMMARY: The United States Trade Representative (USTR) is making technical corrections to the Harmonized Tariff Schedule of the United States (HTS) as set forth in the annex to this notice, pursuant to authority delegated to the USTR in Presidential Proclamation 6969 of January 27, 1997 (62 FR 4415). These modifications correct several inadvertent errors and omissions in the Annex to Presidential Proclamation 7529 of March 5, 2002 (67 FR 10553) so that the intended tariff treatment is provided.

EFFECTIVE DATE: March 20, 2002.

FOR FURTHER INFORMATION CONTACT: Office of Industry, Office of the United States Trade Representative, 600 17th Street, NW, Room 501, Washington DC, 20508. Telephone (202) 395-5656.

SUPPLEMENTARY INFORMATION: On March 5, 2002, Proclamation 7529 established increases in duty and a tariff-rate quota (safeguard measures) pursuant to section 203 of the Trade Act of 1974 (19 U.S.C. 2253) on imports of certain steel products described in paragraph 7 of that proclamation. Effective with respect to goods entered, or withdrawn from warehouse for consumption, on or after 12:01 a.m., EST, on March 20, 2002, Proclamation 7529 modifies the HTS so as to provide for such increased duties and a tariff-rate quota. The annex to this notice makes technical corrections to the HTS to remedy several technical errors and omissions introduced through the annex to Proclamation 7529, so that the intended tariff treatment is provided. In particular, the annex to this notice corrects (1) errors in the physical dimensions or chemical composition of certain products excluded from the application of the safeguard measures and (2) errors regarding the exclusion of products of certain developing country WTO Members from the safeguard measures.

Proclamation 6969 authorized the USTR to exercise the authority provided to the President under section 604 of the Trade Act of 1974 (19 U.S.C. 2483) to embody rectifications, technical or conforming changes, or similar modifications in the HTS. Under authority vested in the USTR by Proclamation 6969, the rectifications, technical and conforming changes, and similar modifications set forth in the annex to this notice shall be embodied in the HTS with respect to goods entered, or withdrawn from warehouse for consumption, on or after March 20, 2002.

Peter F. Allgeier,
Deputy United States Trade Representative.

Annex

The Harmonized Tariff Schedule of the United States (HTS) is modified as set forth in this annex, effective with respect to articles entered, or withdrawn from warehouse for consumption, on or after 12:01 a.m., EST, on March 20, 2002. The following provisions supersede matter now in the HTS:

(1) United States note 11(b) to subchapter III of chapter 99 of the HTS is modified as follows: (a) In subdivision (b)(xi), the expression “ASTM 345 method A” is deleted and “ASTM E45 method A” is inserted in lieu thereof; (b) in subdivision (b)(xii), the expression “Charpy-notch” is deleted and “Charpy V-notch” is inserted in lieu thereof; (c) in subdivision (b)(xiv), the expression “measuring over 4.75 mm in thickness, not in coils,” is inserted after “steel products”, and the expression “manufactured to” is deleted and “suitable for use in the manufacture of line pipe of” is inserted in lieu thereof; (d) in subdivision (b)(xvi)(A) the unit of measure “4.55” is deleted and “1.91” is inserted in lieu thereof; (e) in the first line of subdivision (b)(xvii), the expression “or dual phase” is inserted after “(TRIP)”; and in subdivisions (b)(xvii)(A) through (C), inclusive, the following modifications are made at each appearance: “2000 mm to 2499” is deleted and “2.000 mm to 2.499” is inserted in lieu thereof, “2500 mm to 3249” is deleted and “2.500 mm to 3.249” is inserted in lieu thereof, “3250 mm to 3999” is deleted and “3.250 mm to 3.999” is inserted in lieu thereof, and “4000 mm to 6000” is deleted and “4.000 mm to 6.000” is inserted in lieu thereof; (f) in subdivision (b)(xix)(B), the expression “aluminum of 0.015 percent TV” is deleted and “aluminum of 0.04 percent typical value (TV)” is inserted in lieu thereof; (g) in subdivision (b)(xxii)(B), the expression “vanadium 0.15 percent,” is inserted after “phosphorus 0.010 percent,”; (h) in the opening language of subdivision (b)(xxiv), the word “hot-rolled” is inserted before “flat-rolled”, the expression, “in coils,” is inserted after “products”, the parenthetical reference is deleted, and the unit of measure “17.8” is deleted and “19.65” is inserted in lieu thereof; (i) in subdivision (b)(xxv), the parenthetical expression “(per mm of width)” is modified to read “(per 25.4 mm of width)“; (j) in subdivision (b)(xxvi), subdivisions (A) and (B) and their subordinate paragraphs are deleted and the following new provisions inserted in lieu thereof:

“(A) uncoated flat products, less than 4.75 mm in thickness, not further worked than cold-rolled, comprising either—

(I) certain uncoated cold-rolled flat-rolled products (of Grade C80M), of a width less than 300 mm and a thickness exceeding 0.25 mm, produced with following chemistries (in percent by weight): carbon content greater than or equal to 0.74 percent but less than or equal to 0.80 percent; silicon content greater than or equal to 0.10 percent but less than or equal to 0.25 percent; manganese content greater than or equal to 0.30 percent but less than or equal to 0.60 percent; phosphorus content less than or equal to 0.025 percent; sulfur content less than or equal to 0.015 percent; chromium content greater than or equal to 0.40 percent but less than or equal to 0.55 percent; copper content less than or equal to 0.15 percent; nickel content less than or equal to 0.15 percent; aluminum content greater than or equal to 0.02 percent but less than or equal to 0.05 percent; oxide content less than or equal to 0.0012 percent; titanium content less than or equal to 0.002 percent; and tin content less than or equal to 0.008 percent;

(II) certain uncoated cold-rolled flat-rolled products (of Grade 16MnCr5M2), of a width less than 300 mm and a thickness exceeding 0.25 mm, produced with following chemistries (in percent by weight): carbon content greater than or equal to 0.12 percent but less than or equal to 0.16 percent; silicon content less than or equal to 0.10 percent; manganese content greater than or equal to 0.95 percent but less than or equal to 1.05 percent; phosphorus content less than or equal to 0.020 percent; sulfur content less than or equal to 0.005 percent; combined phosphorus and sulfur content of less than or equal to 0.020 percent; chromium content greater than or equal to 0.75 percent but less than or equal to 0.85 percent; copper content less than or equal to 0.10 percent; nickel content less than or equal to 0.10 percent; nitrogen content greater than or equal to 0.004 percent but less than or equal to 0.008 percent; aluminum content greater than or equal to 0.02 percent but less than or equal to 0.07 percent;

(B) bonderized (phosphate coated) cold-rolled flat-rolled products, less than 4.75 mm in thickness, comprising—

(I) C15M bonderized flat-rolled products, of a width less than 300 mm and a thickness exceeding 0.25 mm, coated (bonderized) on one side with a special phosphate coating, produced to the following chemistries (in percent by weight): carbon content greater than or equal to 0.12 percent but less than or equal to 0.15 percent; silicon content less than or equal to 0.12 percent; manganese content greater than or equal to 0.50 percent but less than or equal to 0.70 percent; phosphorus content less than or equal to 0.030 percent; sulfur content less than or equal to 0.025 percent; chromium content greater than or equal to 0.20 percent but less than or equal to 0.40 percent; copper content less than or equal to 0.20 percent; nickel content greater than or equal to 0.20 percent but less than or equal to 0.40 percent; and aluminum content greater than or equal to 0.07 percent but less than or equal to 0.12 percent;

(II) MRST443 bonderized flat-rolled products, of a width less than 300 mm and a thickness exceeding 0.25 mm, coated (bonderized) on one side with a special phosphate coating, produced to the following chemistries (in percent by weight): carbon content greater than or equal to 0.06 percent but less than or equal to 0.09 percent; silicon content less than or equal to 0.05 percent; manganese content greater than or equal to 0.55 percent but less than or equal to 0.75 percent; phosphorus content less than or equal to 0.03 percent; sulfur content less than or equal to 0.02 percent; nitrogen content greater than or equal to 0.004 percent but less than or equal to 0.006 percent; and aluminum content greater than or equal to 0.09 percent but less than or equal to 0.16 percent;

(III)16MnCr5M bonderized flat-rolled products, of a width less than 300 mm and a thickness exceeding 0.25 mm, coated (bonderized) on one side with a special phosphate coating, produced to the following chemistries (in percent by weight): carbon content greater than or equal to 0.14 percent but less than or equal to 0.18 percent; silicon content less than or equal to 0.10 percent; manganese content greater than or equal to 1.0 percent but less than or equal to 1.2 percent; phosphorus content less than or equal to 0.02 percent; sulfur content less than or equal to 0.008 percent; combined phosphorus and sulfur content of less than or equal to 0.02 percent; chromium content greater than or equal to 0.85 percent but less than or equal to 1.05 percent; copper content less than or equal 0.10 percent; nickel content less than or equal to 0.10 percent; nitrogen content greater than or equal to 0.004 percent but less than or equal to 0.008 percent; and aluminum content greater than or equal to 0.020 percent but less than or equal to 0.07 percent; or

(IV) C16M bonderized flat-rolled products, of a width less than 300 mm and a thickness exceeding 0.25 mm, coated (bonderized) on one side with a special phosphate coating, produced to the following chemistries (in percent by weight): carbon content greater than or equal to 0.145 percent but less than or equal to 0.194 percent; silicon content less than or equal to 0.10 percent; manganese content greater than or equal to 0.75 percent but less than or equal to 1.0 percent; phosphorus content less than or equal to 0.02 percent; sulfur content less than or equal to 0.01 percent; combined phosphorus and sulfur content less than or equal to 0.025 percent; chromium content greater than or equal to 0.55 percent but less than or equal to 0.70 percent; copper content less than or equal to 0.10 percent; nickel content less than or equal to 0.10 percent; nitrogen content greater than or equal to 0.004 percent but less than or equal to 0.008 percent; and aluminum content greater than or equal to 0.02 percent but less than or equal to 0.07 percent;

(k) in subdivision (b)(xxxi), the expression “4.75 mm or greater” is deleted and “less than 4.75 mm” is inserted in lieu thereof; and the second appearance of the expression “ASTM B753” is modified to read “ASTM A753”; (l) in subdivision (b)(xxvii)(B), the expression “certain flat products for battery cell flat products” is deleted and the expression “certain battery cell flat-rolled products” is inserted in lieu thereof; (m) in subdivision (b)(xxxii)(B)(IV), the expression “elongation 15-28 percent;” is deleted and “elongation 17-28 percent” is inserted in lieu thereof; (n) in subdivisions (b)(xxxii)(B)(I) through (XV), inclusive, the expression “silicon maximum 0.010 percent by weight” is deleted and “sulfur maximum 0.010 percent by weight” is inserted in lieu thereof; (o) in subdivision (b)(xxxii)(C), the expression “0.048 mm and widths from 76.2 mm to 152.4 mm” is deleted and “0.48 mm and widths from 762 mm to 1524 mm” is inserted in lieu thereof; (p) in subdivision (b)(xxxiii), “.0127” is deleted and “0.0127” is inserted in lieu there, and the language (as just modified) after “decarburization: 0.0127 mm maximum;” is deleted and the following language is inserted in lieu thereof: “thickness of 0.5964 mm and gauge tolerance of +/−0.0127 mm, thickness of 0.431 mm and gauge tolerance of +/−0.0127 mm or thickness of 0.888 mm and gauge tolerance of +/−0.025 mm:” (q) in subdivision (b)(xxxiv)(D), the expression “width range 93.36 mm-11.98 mm” is deleted and “width range 7.01 mm−11.98mm” is inserted in lieu thereof; (r) in subdivision (b)(xxxv)(A) the word “nickle” is deleted and “nickel” is inserted in lieu thereof; (s) in the opening language of subdivision (b)(xxxix), the expression “heat shrinkable (HS) band products designated as X-142, as described below:” is deleted and “heat shrinkable (HS) band products (subdivisions A-E) and other galvanized products (subdivision F), designated as X-142, as described below:” is inserted in lieu thereof; (t) in subdivision (b)(xxxix)(A), the expression “zinc 7 g/m²” is deleted and “zinc 17 g/m²” is inserted in lieu thereof; (u) in subdivision (b)(xxxix)(F), the expression “from 0.03 percent to 0.6 percent carbon” is deleted and “from 0.03 percent to 0.06 percent carbon” is inserted in lieu thereof, and the expression “a thickness over 0.312 mm but not over 0.38 mm;” is deleted and “a thickness of 0.35 mm with tolerance of +/−0.038 mm;” is inserted in lieu thereof; (v) in subdivision (b)(xl)(C), the expression “μ = 800” is deleted and “μ greater than or equal to 800” is inserted in lieu thereof, and the expression “maximum deviation from horizontal flat surface of 5 mm or more;” is deleted and “maximum deviation from horizontal flat surface of 5 mm maximum;” is inserted in lieu thereof; (w) in subdivision (b)(xl)(D), the expression “μ = 500” is deleted and “μ greater than or equal to 500” is inserted in lieu thereof; (x) in the opening language of subdivision (b)(xlviii), the word “line” is inserted after “welded”, and in subdivision (b)(xlviii)(B) the unit of measure “914.4” is deleted and “762” is inserted in lieu thereof; (y) in subdivision (b)(xlviii)(B), the unit of measure “22.3” is deleted and “22.2” is inserted in lieu thereof, and the expression “grades X52 through X5” is deleted and “grades X52 through X56” is inserted in lieu thereof; (z) in subdivision (b)(xlviii)(C), the unit of measure “22.3” is deleted and “22.2” is inserted in lieu thereof; and

(aa) In subdivision (b)(xiviii)(F), the unit of measure “20.57” is deleted and “22.86” is inserted in lieu thereof; and (bb) by adding at the end of subdivision (b)(xlviii) the following new subparagraph (H):

“(H) products having an outside diameter measuring 1625.6 mm or greater;”.

(2) U.S. note 11(d) to subchapter III of chapter 99 of the HTS is modified as follows: (a) in subdivision (d)(ii)(A), the expression “9903.72.30 through 9903.73.39” is deleted and “9903.72.30 through 9903.73.23” is inserted in lieu thereof; and (b) in subdivision (d)(ii)(C), the expression “9903.73.74 through 9903.73.86” is deleted and “9903.73.74 through 9903.73.95” is inserted in lieu thereof.

(3) The superior text to subheadings 9903.72.30 through 9903.72.48, inclusive, is modified by deleting the language “(other than stainless steel or tool steel), of rectangular cross section, having a width measuring two or more times the thickness (provided for in subheading 7207.12.00, 7207.20.00 or 7224.90.00)” and by inserting “(other than stainless steel, tool steel, or high-nickel alloy steel), of rectangular cross section, having a width measuring two or more times the thickness, if provided for in subheading 7207.12.00 or 7207.20.00, or having a width measuring four or more times the thickness if provided for in 7224.90.00” in lieu thereof.

(4) The superior text to subheadings 9903.72.65 through 9903.72.82 is modified by inserting “7208.25.60,” after 7208.25.30,”.

(5) The superior text to subheadings 9903.72.85 through 9903.73.04, inclusive, is modified by deleting the expression “if in coils” and by inserting “if not in coils” in lieu thereof.

(6) The superior text to subheadings 9903.73.07 through 9903.73.23 is modified by inserting “7225.99.00,” after “7225.92.00,”.

(7) The superior text to subheadings 9903.73.26 through 9903.73.39, inclusive, is modified by deleting “(except products of Brazil)”.

(8) The superior text to subheadings 9903.73.74 through 9903.73.86, inclusive, is modified by deleting the expression “of steel, not of a kind” and by inserting “of steel (other than stainless or tool steel), not of a kind” in lieu thereof.

(9) Subheading 9903.73.77 is modified by deleting “note 11(b)(xlvii)” and by inserting “note 11(b)(xlviii)” in lieu thereof.

(10) Subheading 9903.73.78 is modified by deleting “note 11(b)(li)” and by inserting “note 11(b)(xlix)” in lieu thereof.

(11) The superior text to subheadings 9903.73.88 through 9903.73.95, inclusive, is modified by deleting “India and Romania” and by inserting “India, Romania and Thailand” in lieu thereof.

(12) The superior text to subheadings 9903.74.08 through 9903.74.16, inclusive, is modified by deleting “and having a diameter of less than 19 mm” and by inserting “having a diameter of 19 mm or more” in lieu thereof.

[FR Doc. 02-6735 Filed 3-15-02; 3:31 pm]

BILLING CODE 3190-01-P